DEPARTMENT OF THE INTERIOR

Bureau of Land Management

[ID-210-5101-ER-D050, IDI-35183/NVN-84663]

Extension of Scoping Period for the Notice of Intent To Prepare an Environmental Impact Statement for the Proposed China Mountain Wind Project

AGENCY: Bureau of Land Management, Interior.

ACTION: Extend Scoping Period for the Notice of Intent to Prepare an Environmental Impact Statement for the Proposed China Mountain Wind Project.

SUMMARY: The Bureau of Land Management (BLM) Jarbidge Field Office, Twin Falls District, Idaho, is extending the scoping period for the Environmental Impact Statement for the Proposed China Mountain Wind Project, located in the Jarbidge Foothills, southwest of Rogerson, Idaho, and west of Jackpot, Nevada. The EIS will be prepared in accordance with the Federal Land Policy and Management Act of 1976 (FLPMA) (43 U.S.C. 1701), as amended; the National Environmental Policy Act of 1969 (NEPA) (42 U.S.C. 4321), as amended; and the Council on Environmental Quality (CEQ) regulations (40 CFR parts 1500-1508). This notice extends the public scoping process to identify relevant issues associated with the proposed project.

DATES: The scoping period is extended from June 21, 2008 to July 21, 2008. Comments received after that date will be considered to the extent practicable. Comments may be submitted using one of the methods listed below.

FOR FURTHER INFORMATION CONTACT: China Mountain Wind Project Manager, Jarbidge Field Office, 2536 Kimberly Road, Twin Falls, Idaho 83301, telephone (208) 732-7413.

ADDRESSES: You may submit comments by any of the following methods:

• Web Site: http://www.blm.gov/id/st/en/fo/jarbidge.html.

• E-mail: id_chinamtn_eis@blm.gov.

• Fax: (208) 736-2375 or (208) 735-2076.

• Mail: Project Manager, China Mountain EIS, Jarbidge Field Office, 2536 Kimberly Road, Twin Falls, Idaho 83301.

Comments can also be hand delivered to the Jarbidge Field Office at the address above. Documents pertinent to this proposal may be examined at the Jarbidge Field Office.

Dated: June 30, 2008.
Rick Vander Voet,
Jarbidge Field Office Manager, Idaho Bureau of Land Management.

[FR Doc. E8-15999 Filed 7-11-08; 8:45 am]

BILLING CODE 4310-GG-P